ENVIRONMENTAL PROTECTION AGENCY

[EPA-HQ-OPP-2006-0955; FRL-8394-5]

Rodenticides; Notice of Receipt of Request to Voluntarily Cancel 22 Rodenticide Registrations

AGENCY: Environmental Protection Agency (EPA).

ACTION: Notice.

SUMMARY: In accordance with section 6(f)(1) of the Federal Insecticide, Fungicide, and Rodenticide Act (FIFRA), as amended, EPA is issuing a notice of receipt of requests by the registrants to voluntarily cancel the registrations of 22 rodenticide products containing the active ingredients bromadiolone, bromethalin, cholecalciferol, difenacoum, diphacinone (and its sodium salt), warfarin (and its sodium salt), and zinc phosphide. The request would terminate the 22 rodenticide products listed in Table 1. EPA intends to grant these requests with an effective date of June 4, 2011 at the close of the comment period for this announcement unless the Agency receives substantive comments within the comment period that would merit its further review of the request or unless a registrant withdraws its request within this period. If EPA grants the cancellation requests as anticipated, any sale or distribution of products listed in this notice after June 4, 2011 will be permitted only if such sale or distribution, is consistent with the terms as described in the final order.

DATES: Comments must be received on or before June 22, 2009.

ADDRESSES: Submit your comments, identified by docket identification (ID) number EPA-HQ-OPP-2006-0955, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4:00 p.m., Monday through Friday, excluding legal holidays). Special arrangements should be made for deliveries of boxed information. The Docket telephone number is (703) 305-5805.

Instructions: Direct your comments to docket ID number EPA-HQ-OPP-2006-0955. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov web site to view the docket index or access available documents. Although listed in the index, some information is not publicly available, e.g. CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4:00 p.m., Monday through Friday, excluding legal holidays. The Docket telephone number is (703) 305-5805.

FOR FURTHER INFORMATION CONTACT: Rusty Wasem, Special Review and Reregistration Division (7508P), Office of Pesticide Programs, Environmental Protection Agency, 1200 Pennsylvania Ave., NW., Washington, DC 20460-0001; telephone number: (703) 305-6979; fax number: (703) 308-7070; e-mail address: wasem.russell@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests to Cancel Registrations

This notice announces receipt by EPA of written requests from ADM Alliance Nutrition Inc., Bacon Products Company Inc., Bell Laboratories Inc., Kittrich Corporation, Motomco Limited, Scimetrics Limited Corporation, Value Gardens Supply LLC, and Woodstream Corporation, registrants of rodenticide products, to cancel the product registrations listed in Table 1. Diphacinone (and its sodium salts), and warfarin (and its sodium salts) are first generation anticoagulant rodenticides. Bromadiolone and difenacoum are second generation anticoagulant rodenticides. Bromethalin, cholecalciferol and zinc phosphide are non-anticoagulant rodenticides. These requests will result in the termination of the listed rodenticide products registered in the United States. The received cancellation requests do not represent the termination of all rodenticide products containing the active ingredients diphacinone, warfarin, bromadiolone, difenacoum, bromethalin, cholecalciferol, and zinc phosphide. Many of the rodenticide registrants requesting product cancellations as well as other rodenticide registrants not requesting product cancellations have informed the Agency they intend to submit amended labels for rodenticide products incorporating all of the risk mitigation measures required by the Risk Mitigation Decision for Ten Rodenticides of 2008.

Unless comments are received to the contrary, the Agency intends to make the cancellation effective June 4, 2011, and to allow the requesting registrants to continue to produce, sell and distribute these rodenticide products through the cancellation date of June 4, 2011. EPA intends to allow persons other than the registrant to distribute, sell and use existing stocks of the cancelled products after June 4, 2011 until depleted.

III. What Action is the Agency Taking?

This notice announces receipt by EPA of requests from registrants to cancel specific rodenticide products registrations. The affected products and the registrants making the request are identified in Table 1 and Table 2 of this unit.

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrants request a waiver of the comment period, or

2. The Administrator determines that continued use of the pesticide would pose an unreasonable adverse effect on the environment.

EPA will provide a 180-day comment period on the proposed cancellation requests.

Unless the request is withdrawn by the registrant within 180 days of publication of this notice, or if the Agency determines that there are substantive comments that warrant further review of this request, an order will be issued canceling the affected registrations

Table 1—Rodenticide Product Registrations with Pending Requests for Cancellation
Registration No. | Name | Company Name
Cholecalciferol (PC Code 202901)
3240-28 | Rampage Mouse Seed | Motomco Ltd.
3240-42 | Rampage Rat & Mouse Bait | Motomco Ltd.
12455-57 | Quintox Mouse Seed | Bell Laboratories, Inc.
Bromadiolone (PC Code 112001)
12455-68 | Contrac Mouse Bait Station | Bell Laboratories, Inc.
12455-103 | Contrac Bait Trays | Bell Laboratories, Inc.
12455-104 | Contract Mouse Control Kit | Bell Laboratories, Inc.
Bromethalin (PC Code 112802)
12455-100 | Fastrac Mouse Seed PLACE PAC | Bell Laboratories, Inc.
47629-10 | Bromethalin Manufacturing Concentrate | Woodstream Corp.
Diphacinone (PC Code 067701)
3487-26 | Eagles-14 Diphacinone Rat Bait | Bacon Products Company, Inc.
11885-12 | Master Mix Blue Death-D Rat & Mouse Bait | Adm Alliance Nutrition, Inc.
11885-15 | Master Mix Blue Death-D Rat & Mouse Bait Hide-A-Pack | ADM Alliance Nutrition, Inc.
12455-67 | Ditrac Mouse Bait Station | Bell Laboratories, Inc.
Diphacinone, sodium salt (PC Code 067705)
3240-17 | Motomco Water Soluble Diphacinone Rodenticide Concentrate Ki | Motomco Ltd.
Warfarin (PC Code 086002)
3487-19 | Eagles-7 Rat Bait | Bacon Products Company, Inc.
5887-51 | Black Leaf Warf Pellets | Value Gardens Supply, LLC
5887-98 | Black Leaf Warf Pellets Mouse Killer | Value Gardens Supply, LLC
12455-15 | Warfarin Rat and Mouse Bait | Bell Laboratories, Inc.
62577-7 | Echols Mouse & Rat Pellets | Kittrich Corp.
72500-7 | Kaput Mouse Blocks | Scimetrics, Ltd. Corp.
Warfarin, sodium salt (PC Code 086003)
12455-22 | Liqua-Tox Liquid Concentrate | Bell Laboratories, Inc.
Zinc phosphide (PC Code 088601)
12455-59 | ZP Rodent Bait Place Pac | Bell Laboratories, Inc.
12455-85 | Mole and Gopher Bait | Bell Laboratories, Inc.

Table 2 of this unit includes the name and address of record for the registrants of the products listed in Table 1.

Table 2—Registrants Requesting Voluntary Cancellation
EPA Company No. | Company name and address
3240 | Motomco Ltd. 3699 Kinsman Blvd. Madison, WI 53704
12455 | Bell Laboratories 3699 Kinsman Blvd. Madison, WI 53704
47629 | Woodstream Corp. 69 N. Locust St. PO Box 324 Lititz, PA 17543
3487 | Bacon Products Corp. PO Box 22187 Chattanooga, TN 37422
11185 | ADM Alliance Nutrition, Inc. PO Box C1 Quincy, IL 62305
5887 | Value Gardens Supply LLC 9100 W. Bloomington Fwy. Ste. 113 Bloomington, MN 55431
62577 | Kittrich Corp. 4940 Top Line Dr. Dallas, TX 75247
72500 | Scimetrics Ltd. Corp. C/O Regwest Co. LLC 30856 Rocky Rd. Greeley, CO 80631

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

V. Procedures for Withdrawal of Request and Considerations for Reregistration of Rodenticides

Registrants who choose to withdraw a request for cancellation must submit such withdrawal in writing to the person listed under FOR FURTHER INFORMATION CONTACT, postmarked before June 22, 2009. This written withdrawal of the request for cancellation will apply only to the applicable FIFRA section 6(f)(1) request listed in this notice. If the products have been subject to a previous cancellation action, the effective date of cancellation and all other provisions of any earlier cancellation action are controlling.

VI. Provisions for Disposition of Existing Stocks

Existing stocks are those stocks of registered pesticide products which are currently in the United States and which were packaged, labeled, and released for shipment prior to the effective date of the cancellation action.

If the request for voluntary cancellation is granted as discussed above, the Agency intends to issue a cancellation order that will allow persons other than the registrant to continue to sell and/or use existing stocks of cancelled products until such stocks are exhausted, provided that such use is consistent with the terms of the previously approved labeling on, or that accompanied, the cancelled product. The order will specifically prohibit any use of existing stocks that is not consistent with such previously approved labeling. If, as the Agency currently intends, the final cancellation order contains the existing stocks provision just described, the order will be sent only to the affected registrants of the cancelled products. If the Agency determines that the final cancellation order should contain existing stocks provisions different than the ones just described, the Agency will publish the cancellation order in the Federal Register.

List of Subjects

Environmental protection, Pesticides and pests.

Dated: December 15, 2008.
Steven Bradbury,
Director, Special Review and Reregistration Division, Office of Pesticide Programs.

[FR Doc. E8-30495 Filed 12-23-08; 8:45 am]

BILLING CODE 6560-50-S